SOCIAL SECURITY ADMINISTRATION

The Ticket to Work and Work Incentives Advisory Panel Meeting

AGENCY: Social Security Administration (SSA).

ACTION: Notice of expert roundtable meeting.

DATE: May 3, 2002, 9:00 a.m.-5:30 p.m.

ADDRESSES: Embassy Suites Hotel at the Chevy Chase Pavilion, 4300 Military Road, NW., Washington, DC 20015, Phone: 202-362-9300, Fax: 202-686-3405, Meeting Room: Chevy Chase Ballroom.

SUPPLEMENTARY INFORMATION: Type of meeting: This expert roundtable, entitled “Legal Issues and Implications of Implementation of the Ticket to Work and Work Incentives Improvement Act of 1999,” is open to the public. The public is invited to participate by coming to the address listed above. Public comment will not be taken during the expert roundtable. The public is invited to submit comments in writing on the implementation of the Ticket to Work and Work Incentives Improvement Act (TWWIIA) of 1999 at any time.

Purpose: In accordance with section 10(a)(2) of the Federal Advisory Committee Act, the Social Security Administration (SSA) announces a meeting of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

The Panel will meet in person commencing on Friday, May 3, 2002 from 9 a.m. to 5:30 p.m.

The Panel will use the meeting time to conduct an expert roundtable. Interested parties are invited to attend the meeting.

Agenda: The Panel will hold an expert roundtable. Expert briefings and discussion of legal issues and implications of Ticket to Work and Work Incentives Act policies and provisions, including the Protection & Advocacy for Beneficiaries of Social Security program, dispute resolution, medical coverage, Ticket Program eligibility, vocational rehabilitation and the Americans with Disabilities Act, will be presented.

The full agenda for the meeting will be posted on the Internet at http://www.ssa.gov/work/panel/ one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 400 Virginia Avenue, SW., Suite 700, Washington, DC, 20024.

• Telephone contact with Kristen Breland at (202) 358-6423.

• Fax at (202) 358-6440.

• E-mail to TWWIIAPanel@ssa.gov.

Dated: April 8, 2002.
Deborah M. Morrison,
Designated Federal Officer.

[FR Doc. 02-8974 Filed 4-12-02; 8:45 am]

BILLING CODE 4191-02-U